DEPARTMENT OF HEALTH AND HUMAN SERVICES

Agency for Healthcare Research and Quality

Agency Information Collection Activities: Proposed Collection; Comment Request

Correction

In notice document E9-1009 beginning on page 4748 in the issue of Tuesday, January 27, 2009 make the following correction:

On page 4749, in the first column, under the ADDRESSES section, in the sixth line, “doris.lefkowitz@.ahrq.hhs.gov” should read “doris.lefkowitz@ahrq.hhs.gov”.

[FR Doc. Z9-1009 Filed 2-23-09; 8:45 am]

BILLING CODE 1505-01-D